DEPARTMENT OF THE INTERIOR

National Park Service

Notice of Availability of the Record of Decision on the Final Environmental Impact Statement for the General Management Plan, Lincoln Boyhood National Memorial, Indiana

AGENCY: National Park Service, Department of the Interior.

SUMMARY: Pursuant to section 102(2)(C) of the National Environmental Policy Act of 1969, the National Park Service (NPS) announces the availability of the Record of Decision (ROD) on the final Environmental Impact Statement (EIS) for the General Management Plan (GMP), Lincoln Boyhood National Memorial, Indiana. The Midwest Regional Director approved the ROD for this final GMP/EIS on June 20, 2006. Specifically, the NPS has selected the preferred alternative as described in the GMP/EIS. Under the selected action, the NPS would emphasize a greater array of interpretive opportunities, with the focus on the history of the Lincoln family in southern Indiana, and on the natural and sociopolitical environment of the times. The Lincoln Living Historical Farm would retain its current character, but the interpretive program would provide visitors with interpretive opportunities and demonstrations directly related to the Lincoln story and the way in which the family likely lived in Indiana. The memorial building and court would remain largely unchanged, but new administrative offices would be added to the rear of the structure. Where possible, some elements of the cloister could be returned to their original design. The new addition or structure would harmonize in size, scale, proportion, and materials with the extant structure and would not intrude on the historic scene.

The selected action and two other alternatives were analyzed in the draft and final EIS. A full range of foreseeable environmental consequences was assessed.

Among the alternatives the NPS considered, the selected action best protects Lincoln Boyhood National Memorial's natural and cultural resources, while also providing a range of quality interpretive and educational experiences. It also meets the NPS goals for managing the memorial and meets national environmental policy goals. The preferred alternative will not result in the impairment of resources and values.

The ROD includes a statement of the decision made, synopses of other alternatives considered, the basis for the decision, the rationale for why the selected action is the environmentally preferred alternative, a finding of no impairment of park resources and values, and an overview of public involvement in the decisionmaking process.

FOR FURTHER INFORMATION CONTACT: Superintendent Randy Wester, Lincoln Boyhood National Memorial, P.O. Box 1816, Lincoln City, Indiana 47552-1816, or by calling 812-937-4541. Copies of the final GMP/EIS and the ROD are available upon request from the above address.

Dated: June 20, 2006.
Ernest Quintana,
Regional Director, Midwest Region.

[FR Doc. E6-11427 Filed 7-18-06; 8:45 am]

BILLING CODE 4312-89-P